DEPARTMENT OF ENERGY

Federal Energy Regulatory Commission

Combined Notice of Filings #1

Take notice that the Commission received the following electric corporate filings:

Docket Numbers: EC12-132-000.

Applicants: Sandy Ridge Wind, LLC.

Description: Application for Authorization for Disposition of Jurisdictional facilities and Request for Expedited Action of Sandy Ridge Wind, LLC.

Filed Date: 8/9/12.

Accession Number: 20120809-5079.

Comments Due: 5 p.m. ET 8/30/12.

Take notice that the Commission received the following electric rate filings:

Docket Numbers: ER12-1873-002.

Applicants: Midwest Independent Transmission System Operator, Inc.

Description: SA 1926 DTIA Consumers—METC Amended Compliance to be effective 6/1/2012.

Filed Date: 8/9/12.

Accession Number: 20120809-5061.

Comments Due: 5 p.m. ET 8/30/12.

Docket Numbers: ER12-2424-000.

Applicants: Public Service Company of New Mexico.

Description: PNM OATT Service Agreement No. 392 Tres Amigas, LLC to be effective 10/7/2012.

Filed Date: 8/8/12.

Accession Number: 20120808-5122.

Comments Due: 5 p.m. ET 8/29/12.

Docket Numbers: ER12-2425-000.

Applicants: Southern California Edison Company.

Description: Notices of Cancellation to GIA and DSA SPVP47 Roof Top Solar Project to be effective 8/8/2012.

Filed Date: 8/9/12.

Accession Number: 20120809-5003.

Comments Due: 5 p.m. ET 8/30/12.

Docket Numbers: ER12-2426-000.

Applicants: Michigan Electric Transmission Company, LLC.

Description: METC Certificate of Concurrence to be effective 8/9/2012.

Filed Date: 8/9/12.

Accession Number: 20120809-5029.

Comments Due: 5 p.m. ET 8/30/12.

Docket Numbers: ER12-2427-000.

Applicants: Lakefield Wind Project, LLC.

Description: Lakefield Wind Project FERC Electric Tariff Cancellation to be effective 9/30/2012.

Filed Date: 8/9/12.

Accession Number: 20120809-5033.

Comments Due: 5 p.m. ET 8/30/12.

Docket Numbers: ER12-2428-000.

Applicants: Midwest Independent Transmission System Operator, Inc.

Description: SA 2467 MDU-MDU GIA J200 to be effective 8/10/2012.

Filed Date: 8/9/12.

Accession Number: 20120809-5054.

Comments Due: 5 p.m. ET 8/30/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 9, 2012.
Nathaniel J. Davis, Sr.,
Deputy Secretary.

[FR Doc. 2012-20330 Filed 8-17-12; 8:45 am]

BILLING CODE 6717-01-P